DEPARTMENT OF COMMERCE

Census Bureau

Proposed Information Collection; Comment Request; Annual Survey of State and Local Government Finances

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before December 24, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Jennifer Whitaker, Chief, Public Finance Analysis Branch-A, Governments Division, U.S. Census Bureau, Washington, DC 20233-6800 [(301) 763-2823] (or via the Internet at Jennifer.N.Whitaker@census.gov).

SUPPLEMENTARY INFORMATION:

I. Abstract

The Census Bureau plans to request clearance for the forms necessary to conduct the public finance program which consists of an annual collection of information and a quinquennial collection in the census years ending in “2” and “7”. During the upcoming three years, Census intends to conduct the 2008, 2009 and 2010 Annual Survey of Government Finance.

The Annual Survey of State and Local Government Finance collects data on state government finances and estimates of local government revenue, expenditure, debt, and assets, nationally and within state areas. Data are collected for all agencies, departments, and institutions of the fifty state governments and for a sample of all local governments (counties, municipalities, townships, and special districts). Data for school districts are collected under a separate survey. In the census year, equivalent data are collected from all local governments.

This survey is a mail canvass survey with an initial mailing and three follow-up mailings. Telephone follow-up is used to contact non-respondents and, as necessary, to correct apparent errors and incorrect responses. The forms and procedures are the same as those used in previous finance surveys.

Results of this survey are used by the Bureau of Economic Analysis to develop the public sector components of the National Income and Product Accounts. Other Federal agencies that make frequent use of these data include the U.S. Federal Reserve Board, the Congressional Research Service, the General Accounting Office, and the Department of Justice. Other users include state and local government executives and legislators, policy makers, economists, researchers, and the general public.

II. Method of Collection

Canvass methodology primarily consists of a mail out/mail back questionnaire. Responses will be scanned, and then put into an electronic format. Other methods used to collect data and maximize response include collecting local government data from central state sources and compiling from submitted financial audits, comprehensive financial reports, and public Internet outputs. Also, the finance forms can be completed on the Internet.

III. Data

OMB Control Number: 0607-0585.

Form Number: F-11, F-12, F-13, F-25, F-28, F-29, F-32, and F-42.

Type of Review: Regular submission.

Affected Public: State or local government.

Estimated Number of Respondents: 9,753.

Estimated Time per Response: 2,903.

Estimated Total Annual Burden Hours: 29,911.

Estimated Total Annual Cost: $535,918.

Respondent's Obligation: Voluntary.

Legal Authority: Title 13 U.S.C. 161 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 19, 2007.
Gwellnar Banks,
Management Analyst, Office of the Chief Information Officer.

[FR Doc. E7-20994 Filed 10-24-07; 8:45 am]

BILLING CODE 3510-07-P